DEPARTMENT OF DEFENSE

Office of the Secretary

Availability of the DoD Interim Policy on Land Use Controls Associated With Environmental Restoration Activities

AGENCY: Office of the Deputy Under Secretary of Defense (Environmental Security).

ACTION: Notice of availability.

SUMMARY: Notice is hereby given of the release of the DoD Interim Policy on Land Use Controls Associated with Environmental Restoration Activities. This policy, signed on August 31, 2000, by Ms. Sherri Goodman, Deputy Under Secretary of Defense (Environmental Security), provides an overall DoD framework for implementing, documenting, and managing land use controls (LUCs) for real property that is transferred out of Federal control and for active installations. The policy is available in the Publications section of the DoD Environmental Cleanup Homepage on the World Wide Web. The internet address for the homepage is http://www.dtic.mil/envirodod/.

FOR FURTHER INFORMATION CONTACT: Mr. Shah Choudhury, Office of the Deputy Under Secretary of Defense (Environmental Security), 3400 Defense Pentagon, Washington, DC 20301-3400; telephone (703) 697-7475; e-mail choudhsa@acq.osd.mil.

Dated: September 13, 2000.
L.M. Bynum,
Alternate OSD Federal Register Liaison Officer, Department of Defense.

[FR Doc. 00-23991 Filed 9-18-00; 8:45 am]

BILLING CODE 5001-01-M